DEPARTMENT OF THE INTERIOR

Geological Survey

[GX21GW00SDRM100; OMB Control Number 1028-NEW]

Agency Information Collection Activities; Susquehanna River Angler Survey

AGENCY: U.S. Geological Survey, Department of the Interior.

ACTION: Notice of information collection; request for comment.

SUMMARY: In accordance with the Paperwork Reduction Act (PRA) of 1995, we, the U.S. Geological Survey (USGS), are conducting a new information collection.

DATES: Interested persons are invited to submit comments on or before April 5, 2022.

ADDRESSES: Send your comments on this information collection request (ICR) by mail to U.S. Geological Survey, Information Collections Officer, 12201 Sunrise Valley Drive MS 159, Reston, VA 20192; or by email to gs-info_collections@usgs.gov. Please reference OMB Control Number 1028-NEW in the subject line of your mail or email.

FOR FURTHER INFORMATION CONTACT: To request additional information about this ICR, contact Christopher Huber email at chuber@usgs.gov or by telephone at 970-226-9219. Individuals who are hearing- or speech-impaired may call the Federal Relay Service at 1-800-877-8339 for TTY assistance.

SUPPLEMENTARY INFORMATION: In accordance with the PRA of 1995 and 5 CFR 1320.8(d)(1), we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Whether this collection is necessary to the proper performance of the functions of the USGS; (2) will this information be processed and used in a timely manner; (3) is the estimate of burden accurate; (4) how the USGS might enhance the quality, utility, and clarity of the information to be collected; and (5) how the USGS might minimize the burden of this collection on the respondents, including through the use of information technology.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: The Susquehanna River Angler Survey collects information from anglers in Pennsylvania about their preferences for fishing, including information about their general fishing preferences, their most recent fishing trip, if they would have gone on their most recent fishing trip under different circumstances, and demographic information. The survey results will be used to determine the economic value of recreational fishing in the Susquehanna River and its tributaries under various best-management scenarios. The results will inform resource managers in considering the costs and benefits of alternative management actions.

Title of Collection: Susquehanna River Angler Survey.

OMB Control Number: 1028-NEW.

Form Number: None.

Type of Review: New.

Respondents/Affected Public: Individuals.

Total Estimated Number of Annual Respondents: 3,100.

Total Estimated Number of Annual Responses: 3,100.

Estimated Completion Time per Response: 15 minutes.

Total Estimated Number of Annual Burden Hours: 775.

Respondent's Obligation: Voluntary.

Frequency of Collection: One time.

Total Estimated Annual Nonhour Burden Cost: None.

An agency may not conduct or sponsor, and a person is not required to respond to, a collection of information unless it displays a currently valid OMB control number.

The authority for this action is the Paperwork Reduction Act of 1995 (44 U.S.C. 3501 et seq.).

Emily Pindilli,
Director, Science and Decisions Center.

[FR Doc. 2022-02417 Filed 2-3-22; 8:45 am]

BILLING CODE 4338-11-P